DEPARTMENT OF TRANSPORTATION

Federal Aviation Administration

14 CFR Part 39

[Docket No. FAA-2012-0218; Directorate Identifier 2012-CE-003-AD; Amendment 39-17051; AD 2012-10-02]

RIN 2120-AA64

Airworthiness Directives; Hawker Beechcraft Corporation Airplanes

AGENCY: Federal Aviation Administration (FAA), DOT.

ACTION: Final rule.

SUMMARY: We are adopting a new airworthiness directive (AD) for certain Hawker Beechcraft Corporation Models 58 and G58 airplanes. This AD was prompted by installation of oversized clamps on fuel vapor return and/or fuel vent lines in the outboard sections of the left and right wings. This AD requires inspecting for oversized or deformed fuel hose clamps and replacing as necessary. We are issuing this AD to correct the unsafe condition on these products.

DATES: This AD is effective June 21, 2012.

The Director of the Federal Register approved the incorporation by reference of a certain publication listed in the AD as of June 21, 2012.

ADDRESSES: For service information identified in this AD, contact Hawker Beechcraft Corporation, B091-A04, 10511 E. Central Ave., Wichita, Kansas 67206; telephone: (800) 429-5372 or (316) 676-3140; fax: (316) 676-8027; email: tmdc@hawkerbeechcraft.com; or Internet: http://www.hawkerbeechcraft.com/customer_support/technical_and_field_support/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Thomas Teplik, Aerospace Engineer, Wichita Aircraft Certification Office, FAA, 1801 Airport Road, Room 100, Wichita, Kansas 67209; phone: (316) 946-4196; fax: (316) 329-4090; email: thomas.teplik@faa.gov.

SUPPLEMENTARY INFORMATION:

Discussion

We issued a notice of proposed rulemaking (NPRM) to amend 14 CFR part 39 to include an AD that would apply to the specified products. That NPRM published in the Federal Register on March 2, 2012 (77 FR 12757). That NPRM proposed to require inspection for oversized or deformed fuel hose clamps and replacement as necessary because of reports we have received of installation of oversized clamps on fuel vapor return and/or fuel vent lines in the outboard sections of the left and right wings. This condition, if not corrected, could result in leakage of fuel or vapor in areas where electrical wiring and other potential ignition sources are present, which could lead to an inflight fire.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM (77 FR 12757, March 2, 2012) for correcting the unsafe condition; and

• Do not add any additional burden upon the public than was already proposed in the NPRM (77 FR 12757, March 2, 2012).

Costs of Compliance

We estimate that this AD affects 244 airplanes of U.S. registry.

We estimate the following costs to comply with this AD:

Estimated Costs
Action | Labor cost | Parts cost | Cost per product | Cost on U.S. operators
Defueling, inspection of the fuel hose clamps, and refueling | 3.5 work-hours × $85 per hour = $297.50 | Not applicable | $297.50 | $72,590

We estimate the following costs to do any necessary replacements that would be required based on the results of the inspection. We have no way of determining the number of aircraft that might need these replacements:

On-Condition Costs
Action | Labor cost | Parts cost | Cost per product
Replacement of fuel hose clamps (Cost represents replacement of a maximum of 20 clamps depending on airplane configuration) | 3 work-hours × $85 per hour = $255 | $20 | $275

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-10-02 Hawker Beechcraft Corporation: Amendment 39-17051; Docket No. FAA-2012-0218; Directorate Identifier 2012-CE-003-AD.

(a) Effective Date

This AD is effective June 21, 2012.

(b) Affected ADs

None.

(c) Applicability

(1) This AD applies to the following Hawker Beechcraft Corporation airplanes that are certificated in any category:

(i) Model 58, serial numbers TH-1931 through TH-2124, and

(ii) Model G58, serial numbers TH-2125 through TH-2281, TH-2283, and TH-2284.

(d) Subject

Joint Aircraft System Component (JASC)/Air Transport Association (ATA) of America Code 28; fuel.

(e) Unsafe Condition

This AD was prompted by installation of oversized clamps on fuel vapor return and/or fuel vent lines in the outboard sections of the left and right wings. We are issuing this AD to correct the unsafe condition on these products.

(f) Compliance

Comply with this AD within the compliance times specified, unless already done.

(g) Inspection

Within the next 50 hours time-in-service after June 21, 2012 (the effective date of this AD) or within the next 6 calendar months after June 21, 2012 (the effective date of this AD), whichever occurs first, inspect the fuel hose clamps for oversized or deformed clamps following Hawker Beechcraft Mandatory Service Bulletin No. SB 28-4039, Revision 1, dated October 2011.

Note 1 to paragraph (g) of this AD: If you have a scheduled inspection before the compliance time of this AD, the FAA recommends you comply with this AD at that time.

(h) Replacement

If any oversized or deformed clamps are found during the inspection required in paragraph (g) of this AD, before further flight, replace the clamps following Hawker Beechcraft Mandatory Service Bulletin No. SB 28-4039, Revision 1, dated October 2011.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

For more information about this AD, contact Thomas Teplik, Aerospace Engineer, Wichita ACO, FAA, 1801 Airport Road, Room 100, Wichita, Kansas 67209; phone: (316) 946-4196; fax: (316) 329-4090; email: thomas.teplik@faa.gov.

(k) Material Incorporated by Reference

(1) You must use Hawker Beechcraft Mandatory Service Bulletin No. SB 28-4039, Revision 1, dated October 2011, to do the actions required by this AD, unless the AD specifies otherwise. The Director of the Federal Register approved the incorporation by reference (IBR) under 5 U.S.C. 552(a) and 1 CFR part 51.

(2) For service information identified in this AD, contact Hawker Beechcraft Corporation, B091-A04, 10511 E. Central Ave., Wichita, Kansas 67206; telephone: (800) 429-5372 or (316) 676-3140; fax: (316) 676-8027; email: tmdc@hawkerbeechcraft.com; or Internet: http://www.hawkerbeechcraft.com/customer_support/technical_and_field_support/.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at NARA, call 202-741-6030, or go to: http://www.archives.gov/federal-register/cfr/ibr-locations.html.

Issued in Kansas City, Missouri, on May 9, 2012.
Earl Lawrence,
Manager, Small Airplane Directorate, Aircraft Certification Service.

[FR Doc. 2012-11812 Filed 5-16-12; 8:45 am]

BILLING CODE 4910-13-P